DEPARTMENT OF HOUSING AND URBAN DEVELOPMENT

[Docket No. FR-5909-N-53]

30-Day Notice of Proposed Information Collection: Form 50900: Elements for the Annual Moving to Work Plan and Annual Moving to Work Report

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: August 29, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A. The Federal Register notice that solicited public comment on the information collection for a period of 60 days was published on March 1, 2016 at 81 FR 10647.

A. Overview of Information Collection

Title of Information Collection: Form 50900: Elements for the Annual Moving to Work Plan and Annual Moving to Work Report.

OMB Approval Number: 2577-0216.

Type of Request: Revision of previously approved collection.

Form Number: HUD-50900.

Description of the need for the information and proposed use: All Public Housing Authorities (PHAs) are required to submit a five (5) Year Plan and Annual Plans as stated in Section 5A of the 1937 Act, as amended; however, for PHAs with specific types of Moving to Work (MTW) demonstration agreements (39 at the time of submission of this request) the Annual MTW Plan and Annual MTW Reports are submitted in lieu of the standard annual and 5 year PHA plans.

The MTW Demonstration was authorized under Section 204 of the Omnibus Consolidated Rescissions and Appropriations Act of 1996 (Public Law 104-134, 110 Stat 1321), dated April 26, 1996. The original MTW Demonstration statute permitted up to 30 PHAs to participate in the demonstration program. Nineteen PHAs were selected for participation in the MTW demonstration in response to a HUD Notice published in the Federal Register on December 18, 1996 and five of the 30 slots were filled through the Jobs-Plus Community Response Initiative.

Additional MTW `slots' have been added by Congress over time through appropriations statutes. Two PHAs were specifically named and authorized to join the demonstration in 1999 under the VA, HUD, and Independent Agencies Appropriations Act of 1999 (Pub. L. 105-276, 112 Stat. 2461), dated October 21, 1998. A Public and Indian Housing Notice (PIH Notice 2000-52) issued December 13, 2000, allowed up to an additional 6 PHAs to participate in the MTW demonstration. The Consolidated Appropriations Act, 2008 (Pub. L. 110-161, 121 Stat. 1844) added four named PHAs to the Moving to Work demonstration program.

Subsequent Appropriations Acts for 2009, 2010, and 2011 authorized a total of 12 additional MTW slots. As part of HUD's 2009 budget appropriation (Section 236, title II, division I of the Omnibus Appropriations Act, 2009, enacted March 11, 2009), Congress directed HUD to add three agencies to the MTW program. As part of HUD's 2010 budget appropriation (Section 232, title II, division A of the Consolidated Appropriations Act, 2010, enacted December 16, 2009), Congress authorized HUD to add three agencies to the MTW demonstration. In 2011, Congress again authorized HUD to add three MTW PHAs pursuant to the 2010 Congressional requirements.

A Standard MTW Agreement (Standard Agreement) was developed in 2007, and was transmitted to the existing MTW agencies in January, 2008. As additional MTW PHAs were selected they too were provided with the Standard Agreement. All 39 existing MTW agencies operate under this agreement, which authorizes participation in the demonstration through each agency's 2018 fiscal year. HUD is currently working on an extension of the Standard Agreement to 2028, as required by the Consolidated Appropriations Act, 2016.

Under the Standard Agreement, all MTW sites are authorized to combine their operating, modernization and housing choice voucher funding into a single “block” grant. Because they cannot conform with the requirement for the regular PHA annual and 5 year plans, and because HUD requires different information from these PHAs for program oversight purposes, these sites are required to submit an annual MTW Plan and an annual MTW Report in accordance with their MTW Agreement, in lieu of the regular PHA annual and 5 year plans.

Through the MTW Annual Plan and Report, each MTW site will inform HUD, its residents and the public of the PHA's mission for serving the needs of low-income and very low-income families, and the PHA's strategy for addressing those needs. The MTW Annual Plan, like the Annual PHA Plan, provides an easily identifiable source by which residents, participants in tenant-based programs, and other members of the public may locate policies, rules, and requirements concerning the PHA's operations, programs, and services. Revisions are being made to this 50900 form to improve its usability and to address minor issues identified by HUD and the MTW PHAs over time. The form is also being updated also to implement provisions of the Department's affirmatively furthering fair housing (AFFH) rule (24 CFR 5.150-5.180).

Respondents: The respondents to this PRA are the 39 Public Housing Authorities (PHAs) that currently have the MTW designation.

Estimated Number of Respondents: 39.

Estimated Number of Responses: 468.

There are 7 sections associated with this Form requiring response. All 7 sections are completed with the first annual submission (Plan), and 5 of the 7 are completed with the second annual submission (Report). This results in a total of 12 total responses per PHA, or 468 total responses per year across all 39 affected PHAs.

Frequency of Response: MTW PHAs complete requirements associated with this Form twice per year (Plan and Report). In the Plan, the PHA completes all 7 sections of the Form. In the Report, the PHA completes only 5 of the 7 sections of the Form.

Average Hours per Response: The estimated average burden is 40.5 hours per response (or 81 total hours per year).

Total Estimated Burdens: 4680 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapter 35.

Dated: July 22, 2016.
Colette Pollard,
Department Reports Management Officer, Office of the Chief Information Officer.

[FR Doc. 2016-18028 Filed 7-28-16; 8:45 am]

BILLING CODE 4210-67-P